COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement list.

SUMMARY: The Committee is proposing to add to the Procurement List a product and services to be furnished by nonprofit agencies employing persons who are blind or have other severe disabilities, and to delete services previously furnished by such agencies.

DATES: Comments must be received on or before: March 27, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List. Comments on this certification are invited. Commenters should identify the statement(s) underlying the certification on which they are providing additional information.

End of Certification

The following products and services are proposed for addition to Procurement List for production by the nonprofit agencies listed:

Product

Product/NSN: Flat Highlighters, Pink, 7520-01-351-9146.

NPA: Winston-Salem Industries for the Blind, Winston-Salem, North Carolina.

Contracting Activity: Office Supplies & Paper Products Acquisition Center, New York, NY.

Services

Service Type/Location: Administrative Service, Defense Procurement and Acquisition Policy Office, Crystal Square 4, Suite 200A, Arlington, Virginia.

NPA: Anchor Mental Health Association (Anchor Services Workshop), Washington, DC.

Contracting Activity: HQ Bolling—11th CONS/LGCO, Bolling AFB, DC.

Service Type/Location: Custodial Services, National Institute of Standards and Technology (NIST), Boulder Laboratories, Boulder, Colorado.

NPA: Bayaud Industries, Inc., Denver, Colorado.

Contracting Activity: National Oceanic and Atmospheric Administration, Boulder, Colorado.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Janitorial/Custodial, Internal Revenue Service, Pendleton Trade Center, Indianapolis, Indiana.

NPA: GW Commercial Services, Inc., Indianapolis, Indiana.

Contracting Activity: GSA, PBS.

Service Type/Location: Janitorial/Custodial, Iowa Air National Guard, 185th Air National Guard Base, Sioux City, Iowa.

NPA: Goodwill Community Rehabilitation Services, Inc., Sioux City, Iowa.

Contracting Activity: Department of the Air Force.

Service Type/Location: Janitorial/Custodial, Paul B. Dunbar Building, Cincinnati, Ohio.

NPA: Ohio Valley Goodwill Industries Rehabilitation Center, Inc., Cincinnati, Ohio.

Contracting Activity: General Services Administration.

Service Type/Location: Sorting of Aperture Cards, EDCARS System Management Office, Wright-Patterson AFB, Ohio.

NPA: Clark County Board of Mental Retardation & Developmental Disabilities, Springfield, Ohio.

Contracting Activity: Department of the Air Force.

Sheryl D. Kennerly,
Director, Information Management.

[FR Doc. 05-3680 Filed 2-24-05; 8:45 am]

BILLING CODE 6353-01-P